FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 5, 2015.

A. Federal Reserve Bank of Philadelphia (William Lang, Senior Vice President) 100 North 6th Street, Philadelphia, Pennsylvania 19105-1521:

1. George K. Miller, Ft. Lauderdale, Florida, individually and as part as a group acting in concert with OceanFirst Bank as the voting trustee of the George K. Miller Voting Trust, Toms River, New Jersey; to acquire voting shares of Cornerstone Financial Corporation, and thereby indirectly acquire voting shares of Cornerstone Bank, both in Mt. Laurel, New Jersey.

B. Federal Reserve Bank of Atlanta (Chapelle Davis, Assistant Vice President) 1000 Peachtree Street NE., Atlanta, Georgia 30309:

1. Michael William Mathis of Rome, Georgia; to acquire voting shares of RCB Financial Corporation, and thereby indirectly acquire voting shares of River City Bank, both of Rome, Georgia.

C. Federal Reserve Bank of Dallas (Robert L. Triplett III, Senior Vice President) 2200 North Pearl Street, Dallas, Texas 75201-2272:

1. Mary Ann Blaylock, Midland, Texas, individually and Martha Sue Oliver, San Angelo, Texas, individually and as trustee of the Maxine Page 2015 Bank Stock Trust and the James Page Trust; to acquire voting shares of First Eldorado Bancshares, Inc., Eldorado, Texas, and thereby indirectly acquire The First National Bank of Eldorado, Eldorado, Texas.

Board of Governors of the Federal Reserve System, October 16, 2015.
Margaret McCloskey Shanks,
Deputy Secretary of the Board.

[FR Doc. 2015-26792 Filed 10-21-15; 8:45 am]

BILLING CODE 6210-01-P